DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register Notice with a 60-day comment period soliciting comments on the following collections of information was published on July 24, 2002, page 48501.

DATES: Comments must be submitted on or before December 13, 2002. A comment to OMB is most effective if OMB receives it within 30 days of publication.

FOR FURTHER INFORMATION CONTACT: Judy Street on (202) 267-9895.

SUPPLEMENTARY INFORMATION:

Federal Aviation Administration (FAA)

1. Title: Flight Engineers and Flight Navigators—FAR Part 63.

Type of Request: Extension of a currently approved collection.

OMB Control Number: 2120-0007.

Forms(s): FAA Form 8400-3, Application for an Airman Certificate and/or Rating.

Affected Public: A total of 2,760 airmen.

Abstract: 49 U.S.C. 44902(a), 44702(a)(2), and 44707(1) authorize issuance of airman certificates and provide for examination and rating of flying schools. FAR 63 prescribes requirements for flight navigator certification and training course requirements for these airmen. Information collected is used to determine certification eligibility.

Estimated Annual Burden Hours: An estimated 1,416 hours annually.

2. Title: ACSEP Evaluation Customer Feedback Report.

Type of Request: Extension of a currently approved collection.

OMB Control Number: 2120-0605.

Forms(s): FAA Form 8100.7.

Affected Public: A total of 450 certified aircraft suppliers.

Abstract: The information will be collected from holders of FAA production approvals and selected suppliers to obtain their input on how well the agency is performing the administration and conduct of the Aircraft Certification Systems Evaluation Program (ACSEP). The agency will use the information as a customer service standard and to continually improve ACSEP.

Estimated Annual Burden Hours: An estimated 450 hours annually.

3. Title: Additional Flight Data Recorder Requirements for Certain Boeing 737 Airplanes.

Type of Request: Extension of a currently approved collection.

OMB Control Number: 2120-0651.

Forms(s): NA.

Affected Public: A total of 1,200 owners/operators of Boeing 737 airplanes.

Abstract: This rule requires the recording of additional operating parameters for certain Boeing 737 airplanes. These additional parameters allow the NTSB and FAA to investigate and establish causes for accidents so that the aviation industry can make appropriate modifications to prevent future incidents.

Estimated Annual Burden Hours: An estimated 1 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC on November 4, 2002.
Judith D. Street,
FAA Information Collection Clearance Officer, Standards and Information Division, APF-100.

[FR Doc. 02-28827 Filed 11-12-02; 8:45 am]

BILLING CODE 4910-13-M